DEPARTMENT OF DEFENSE

Office of the Secretary

[Docket ID DOD-2008-OS-0166]

Privacy Act of 1974; Systems of Records

AGENCY: Defense Finance and Accounting Service, DoD.

ACTION: Notice to Add a New System of Records.

SUMMARY: The Defense Finance and Accounting Service (DFAS) is proposing to add a system of records notice to its inventory of record systems subject to the Privacy Act of 1974, (5 U.S.C. 552a), as amended.

DATES: This Action will be effective without further notice on January 29, 2009 unless comments are received that would result in a contrary determination.

ADDRESSES: Send comments to the FOIA/PA Program Manager, Corporate Communications and Legislative Liaison, Defense Finance and Accounting Service, 8899 E. 56th St., Indianapolis, IN 46249-0150.

FOR FURTHER INFORMATION CONTACT: Ms. Linda Krabbenhoft at (303) 589-3510.

SUPPLEMENTARY INFORMATION: The Defense Finance and Accounting Service systems of records notices subject to the Privacy Act of 1974 (5 U.S.C. 552a), as amended, have been published in the Federal Register and are available from the address above.

The proposed system report, as required by 5 U.S.C. 552a(r) of the Privacy Act of 1974, as amended, was submitted on December 19, 2008, to the House Committee on Government Reform, the Senate Committee on Homeland Security and Governmental Affairs, and the Office of Management and Budget (OMB) pursuant to paragraph 4c of Appendix I to OMB Circular No. A-130, ‘Federal Agency Responsibilities for Maintaining Records About Individuals,' dated December 12, 2000, 65 FR 239.

Dated: December 22, 2008.
Morgan E. Frazier,
Alternate OSD Federal Register Liaison Officer, Department of Defense.

T7300b

System name:

Voucher Attachment System Records.

System location:

Document Automation and Production Services (DAPS), 5450 Carlisle Pike, Building 410, Mechanicsburg, PA 17050-2411 and DAPS, 8000 Jefferson Davis Highway, Richmond, VA 23237-4480.

Categories of individuals covered by the system:

Active duty, Reserve and National Guard, Army, Navy, Air Force, and Marine Corps military members.

Categories of records in the system:

Name, Social Security Number, military pay disbursement and collection voucher data, voucher control logs, voucher numbers, deposit funds data and end-of-day reports data.

Authority for maintenance of the system:

5 U.S.C. 301, Departmental Regulations; 31 U.S.C. 3325, 3511, 3512, and 3513, Department of Defense Financial Management Regulation (DoDFMR) 7000.14-R Vol. 5 and E.O. 9397(SSN).

Purpose(s):

To store scanned supporting documentation or attachments to be used with the disbursement vouchers to make payments. The supporting documentation or attachments are required to validate and support the actual disbursement, and without this documentation, a disbursement cannot be made. The VAS system will be linked directly to the Voucher Processing System (VPS), and this will allow for the processing of the disbursement in the Voucher Processing System (VPS).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” published at the beginning of the DFAS compilation of systems of records notices also apply to this system.

Policies and practices for storing, retrieving, accessing, retaining, and disposing of records in the system:

Storage:

Paper records and electronic storage media.

Retrievability:

Name and Social Security Number.

Safeguards:

Records are stored in an office building protected by guards, controlled screening, use of visitor registers, electronic access, and/or locks. Access to records is limited to individuals who are properly screened and cleared on a need to know basis in the performance of their duties. Passwords and digital signatures are used to control access to the system data, and procedures are in place to deter and detect browsing and unauthorized access. Physical and electronic access are limited to persons responsible for servicing and authorized to use the system.

Retention and disposal:

Hard copy records are cut off at the end of the month that they are scanned, and destroyed 180 days after scanning. The electronic data is cut off after the end of the month and destroyed 6 years and 3 months after cutoff. Records are destroyed by degaussing, burning, and shredding.

System manager(s) and address:

Voucher Attachment System (VAS) Program Manager, Defense Finance and Accounting Service, Information and Technology Services, 1931 S. Bell Street, Arlington, VA 22240-0001.

Notification procedure:

Individuals seeking to determine whether information about them is contained in this record system should address written inquiries to the Defense Finance and Accounting Service, Freedom of Information/Privacy Act Program Manager, Corporate Communications and Legislative Liaison, 8899 E. 56th Street, Indianapolis, IN 46249-0150.

Individuals should furnish full name, Social Security Number, current address, and telephone number.

Record access procedures:

Individuals seeking access to information about them contained in this system should address written inquiries to Defense Finance and Accounting Service, Freedom of Information/Privacy Act Program Manager, Corporate Communications and Legislative Liaison, 8899 E. 56th Street, Indianapolis, IN 46249-0150.

Individuals should furnish full name, Social Security Number, current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 8899 E. 56th Street, Indianapolis, IN 46249-0150.

Record source categories:

The individual concerned and the Army, Navy, Air Force, and Marine Corps.

Exemptions claimed for the system:

None.

[FR Doc. E8-30882 Filed 12-29-08; 8:45 am]

BILLING CODE 5001-06-P